DEPARTMENT OF DEFENSE

Department of the Army; Corps of Engineers

33 CFR Part 385

Programmatic Regulations for the Comprehensive Everglades Restoration Plan

AGENCY: Department of the Army, U.S. Army Corps of Engineers, DoD.

ACTION: Notice of initiation of rule review.

SUMMARY: The Army has initiated a review of the programmatic regulations for the Comprehensive Everglades Restoration Plan required by section 601(h)(3)(E) of the Water Resources Development Act of 2000. As part of scoping the review for the regulations, the public is invited to provide comments on this review. Specifically, we welcome your comments on issues concerning the programmatic regulations, any items in the regulations that should be reviewed, or suggestions to improve the programmatic regulations.

DATES: We will accept comments until August 18, 2008.

ADDRESSES: If you wish to comment on the review of the programmatic regulations, you may submit your comments by either of these methods:

1. You may submit written comments to: U.S. Army Corps of Engineers, ATTN: Stu Appelbaum, P.O. Box 4970, Jacksonville, FL 32232-0019.

2. You may send comments by electronic mail (e-mail) to: ProRegs@usace.army.mil.

If submitting comments by electronic format, please submit them in ASCII file format or Word file format and avoid the use of special characters and any form of encryption. Please include your name and return e-mail address in your e-mail message. Please note that your e-mail address will not be retained at the termination of the public comment period.

FOR FURTHER INFORMATION CONTACT: Stu Appelbaum, Corps of Engineers, Jacksonville District, P.O. Box 4970, Jacksonville, FL 32232-0019, phone (904) 232-2584; fax (904) 232-1251.

SUPPLEMENTARY INFORMATION: On November 12, 2003 the Department of the Army published the final rule in the Federal Register that established the programmatic regulations required by the Water Resources Development Act of 2000 as 33 CFR Part 385. Section 601(h)(3)(E) of the Water Resources Development Act of 2000 requires that the Secretary of the Army review the programmatic regulations whenever necessary, but at least every five years. Section 385.6 of the programmatic regulations requires that upon completing the review of the regulations, the Secretary of the Army will promulgate any revisions to the regulations after notice and opportunity for public comment in accordance with applicable law, with the concurrence of the Secretary of the Interior and the Governor, and in consultation with the Seminole Tribe of Florida, the Miccosukee Tribe of Indians of Florida, the Administrator of the Environmental Protection Agency, the Secretary of Commerce, and other Federal, State, and local agencies.

The first step of the review process is to scope out issues and concerns. The public is invited to provide comments on the review of the programmatic regulations. We welcome the public to tell us about specific issues that should be addressed or suggestions to improve the programmatic regulations. We will be providing additional opportunities for public involvement throughout the review process. An electronic copy of the current programmatic regulations is available at: http://www.evergladesplan.org/pm/progr_regs_final_rule.aspx.

Brenda S. Bowen,
Army Federal Register Liaison Officer.

[FR Doc. E8-11250 Filed 5-19-08; 8:45 am]

BILLING CODE 3710-AJ-P